FEDERAL RESERVE SYSTEM

Agency Information Collection Activities: Announcement of Board Approval Under Delegated Authority and Submission to OMB

AGENCY: Board of Governors of the Federal Reserve System.

SUMMARY: The Board of Governors of the Federal Reserve System (Board) is adopting a proposal to extend for three years, with revision, the Procurement Solicitation Package (FR 1400; OMB No. 7100-0180).

FOR FURTHER INFORMATION CONTACT: Federal Reserve Board Clearance Officer—Nuha Elmaghrabi—Office of the Chief Data Officer, Board of Governors of the Federal Reserve System, nuha.elmaghrabi@frb.gov, (202) 452-3884.

Office of Management and Budget (OMB) Desk Officer for the Federal Reserve Board, Office of Information and Regulatory Affairs, Office of Management and Budget, New Executive Office Building, Room 10235, 725 17th Street NW, Washington, DC 20503, or by fax to (202) 395-6974.

SUPPLEMENTARY INFORMATION: On June 15, 1984, OMB delegated to the Board authority under the Paperwork Reduction Act (PRA) to approve and assign OMB control numbers to collections of information conducted or sponsored by the Board. Board-approved collections of information are incorporated into the official OMB inventory of currently approved collections of information. The OMB inventory, as well as copies of the PRA Submission, supporting statements (which contain more detailed information about the information collections and burden estimates than this notice), and approved collection of information instrument(s) are available at https://www.reginfo.gov/public/do/PRAMain. These documents are also available on the Federal Reserve Board's public website at https://www.federalreserve.gov/apps/reportingforms/home/review or may be requested from the agency clearance officer, whose name appears above.

Final Approval Under OMB Delegated Authority of the Extension for Three Years, With Revision, of the Following Information Collection

Collection title: Procurement Solicitation Package.

Collection identifier: FR 1400.

OMB control number: 7100-0180.

Effective Date: October 11, 2023.

General description of collection: The Board uses the Procurement Solicitation Package, which includes a supplier database and solicitation documents as appropriate, to assist in the competitive process of soliciting proposals from suppliers of goods and services. The Procurement Solicitation Package includes the: Supplier Registration System (FR 1400A), Solicitation Package (Solicitation, Offer, and Award Form; Supplier Information Form; Past Performance Data Sheet; and Past Performance Questionnaire) (FR 1400B), Supplier Risk Management Offeror Questionnaire (FR 1400C), and Subcontracting Report (FR 1400D).

The solicitation documents are typically for the procurement of goods, services and construction that are not off-the-shelf items. The Board's supplier database serves as a venue for Board staff to research potential suppliers and their qualifications. When a solicitation is constructed for a specific acquisition, the solicitation package is typically called a Solicitation, Offer, and Award (SOA) document, which consists of the Solicitation Form (Section A of the SOA) and Supplier Information Form (Section N of the SOA), which are both part of FR 1400B. Depending on the requirements of the specific acquisition, the SOA may also consist of a Past Performance Data Sheet (part of FR 1400B), Past Performance Questionnaire (part of FR 1400B), Supplier Risk Management Offeror Questionnaire (FR 1400C), or Subcontracting Report (FR 1400D). This information collection is required to collect data on prices, specifications of goods and services, and qualifications of prospective suppliers.

Frequency: Event-generated.

Respondents: Businesses and individuals.

Total estimated number of respondents: 630.

Total estimated change in burden: 33.

Total estimated annual burden hours: 24,863.¹

¹ More detailed information regarding this collection, including more detailed burden estimates, can be found in the OMB Supporting Statement posted at https://www.federalreserve.gov/apps/reportingforms/home/review. On the page displayed at the link, you can find the OMB Supporting Statement by referencing the collection identifier, FR 1400.

Current actions: On May 15, 2023, the Board published a notice in the Federal Register (88 FR 30970) requesting public comment for 60 days on the extension, with revision, of the Procurement Solicitation Package. The Board proposed to revise the FR 1400 by transitioning the FR 1400B into the new online source to settle system provided by Coupa, making minor revisions to the content to help improve reporting and reduce commonly asked follow-up questions, and adding a new section to the SOA, which respondents will be required to complete and then update or re-certify each year. This information would be required for every supplier when they complete a solicitation. Additionally, on an annual basis, suppliers would be required to login to Coupa to update or re-certify that representation information they originally entered in the “Board of Governors Policy Information” section is still correct. The FR 1400C and FR 1400D would also be transitioned to the Coupa system; however, the contents and format of the FR 1400C and FR 1400D would not change. There were no revisions proposed to the FR 1400A.The comment period for this notice expired on July 14, 2023. The Board did not receive any comments. The revisions will be implemented as proposed.

Board of Governors of the Federal Reserve System, September 5, 2023.
Michele Taylor Fennell,
Deputy Associate Secretary of the Board.

[FR Doc. 2023-19474 Filed 9-8-23; 8:45 am]

BILLING CODE 6210-01-P